DEPARTMENT OF TRANSPORTATION

Federal Highway Administration

Notice of Final Federal Agency Actions on Proposed Highway in Utah

AGENCY: Federal Highway Administration (FHWA), DOT.

ACTION: Notice of limitation of claims for Judicial Review of actions by FHWA.

SUMMARY: This notice announces actions taken by FWHA that are final within the meaning of 23 U.S.C. 139(l)(1). The actions relate to the proposed Porter Rockwell Boulevard Project in Salt Lake County in the State of Utah. These actions grant approvals for the project.

DATES: By this notice, FHWA is advising the public of final agency actions subject to 23 U.S.C. 139(l)(1). A claim seeking judicial review of FHWA actions on the highway project will be barred unless the claim is filed on or before March 7, 2016. If the Federal law that authorizes judicial review of a claim provides a time period of less than 150 days for filing such claim, then that shorter time period still applies.

FOR FURTHER INFORMATION CONTACT: Bryan Dillon, Urban Area Engineer, FHWA Utah Division, 2520 West 4700 South, Suite 9A, Salt Lake City, Utah 84129; telephone: 801-955-3517; email: bryan.dillon@dot.gov. The FHWA Utah Division Office's normal business hours are 7:30 a.m. to 4:30 p.m. (Mountain Standard Time), Monday through Friday, except Federal holidays.

SUPPLEMENTARY INFORMATION: Notice is hereby given that FHWA has taken final agency action subject to 23 U.S.C. 139(l)(1) by issuing licenses, permits, and approvals for the Porter Rockwell Boulevard Project in the State of Utah. The Porter Rockwell Boulevard Project proposes to provide transportation improvements along Porter Rockwell Boulevard, between Mountain View Corridor, Redwood Road, and the 14600 South interchange at I-15, in Salt Lake County, Utah.

The project consists of the following improvements: Widening Porter Rockwell Boulevard from four travel lanes to six travel lanes between Mountain View Corridor and Redwood Road; Widening Porter Rockwell Boulevard from two travel lanes to six travel lanes between Freedom Point Way and 14600 South; Constructing a new six-lane roadway on new alignment between Redwood Road and Freedom Point Way to connect existing sections of Porter Rockwell Boulevard at Redwood Road on the west and at Freedom Point Way on the east; Constructing a bridge over the Jordan River, the UPRR/UTA Frontrunner rail line, and several canals, which would be designed for a 50 year lifespan and would be of sufficient width to carry six travel lanes, plus pedestrian/bicycle facilities; Improving the Porter Rockwell Boulevard/Redwood Road intersection to accommodate the 2040 travel demand; Constructing an intersection at 14600 South that would curve Porter Rockwell Boulevard to the east to connect directly to the 1-15 interchange; and Incorporating a new bicycle route and multi-use trail facility as part of the roadway and providing a connection between the new trail and the Jordan River Parkway Trail.

The actions by FHWA and the laws under which such actions were taken are described in the Porter Rockwell Boulevard Environmental Assessment (EA) and in the Finding of No Significant Impact (FONSI) issued on August 26, 2015, and in other documents in the project records. The EA, FONSI, and other project records are available by contacting FHWA at the address provided above.

This notice applies to all FHWA decisions as of the issuance date of this notice and all laws under which such actions were taken. Laws generally applicable to such actions include but are not limited to:

• General: National Environmental Policy Act (NEPA) [42 U.S.C. 4321-4351; Federal-Aid Highway Act [23 U.S.C. 109].

• Wildlife: Endangered Species Act [16 U.S.C. 1531-1544 and 1536]; Fish and Wildlife Coordination Act [16 U.S.C. 661-667(d); Migratory Bird Treaty Act [16 U.S.C. 703-712].

• Cultural Resources: Section 106 of the National Historic Preservation Act of 1966, as amended [16 U.S.C. 470(f) et seq.]; Archaeological and Historic Preservation Act [16 U.S.C. 469-469(c)]; Archaeological Resources Protection Act of 1977 [16 U.S.C. 470(aa)-11].

• Noise: Federal-Aid Highway Act of 1970 [Public Law 91-605, 84 Stat. 1713]

• Executive Orders: E.O. 11593 Protection and Enhancement of Cultural Resources; E.O. 13287 Preserve America.

(Catalog of Federal Domestic Assistance Program Number 20.205, Highway Planning and Construction. The regulations implementing Executive Order 12372 regarding intergovernmental consultation on Federal programs and activities apply to this program.)

Authority: 23 U.S.C. 139(l)(1).

Issued on: September 29, 2015.
Ivan Marrero,
Division Administrator, Utah Division.

[FR Doc. 2015-25549 Filed 10-8-15; 8:45 am]

BILLING CODE 4910-RY-P